ENVIRONMENTAL PROTECTION AGENCY

[EPA-HQ-OECA-2018-0248; FRL-9979-04-OECA]

Proposed Information Collection Request; Comment Request; Air Stationary Source Compliance and Enforcement Information Reporting (Renewal)

AGENCY: Environmental Protection Agency (EPA).

ACTION: Notice.

SUMMARY: The Environmental Protection Agency (EPA) is planning to submit an information collection request (ICR), “Air Stationary Source Compliance and Enforcement Information Reporting” (EPA ICR No. 0107.12, OMB Control No. 2060-0096) to the Office of Management and Budget (OMB) for review and approval in accordance with the Paperwork Reduction Act. Before doing so, EPA is soliciting public comments on specific aspects of the proposed information collection as described below. This is a proposed extension of the ICR, which is currently approved through January 31, 2019. An Agency may not conduct or sponsor and a person is not required to respond to a collection of information unless it displays a currently valid OMB control number.

We are also soliciting comment on several options for improving the reporting of Clean Air Act stationary source facility compliance information in order to improve the display, usability and accuracy of these data for presentation to the public through EPA's Enforcement Compliance History Online (ECHO) capability.

DATES: Comments must be submitted on or before August 7, 2018.

ADDRESSES: Submit your comments, referencing Docket ID No. EPA-HQ-OECA-2018-0248 online using www.regulations.gov (our preferred method), by email to docket.oeca@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: David A. Meredith, Enforcement Targeting and Data Division, Office of Compliance, (2222A), Environmental Protection Agency, 1200 Pennsylvania Ave. NW, Washington, DC 20460; telephone number: 202-564-4152; email address: meredith.david@epa.gov.

SUPPLEMENTARY INFORMATION:

Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. Burden is defined at 5 CFR 1320.03(b). EPA will consider the comments received and amend the ICR as appropriate. The final ICR package will then be submitted to OMB for review and approval. At that time, EPA will issue another Federal Register notice to announce the submission of the ICR to OMB and the opportunity to submit additional comments to OMB.

Abstract: Air Stationary Source Compliance and Enforcement Information Reporting is an activity whereby State, Local, Native American, Territorial, and Commonwealth governments (hereafter referred to as either “states/locals” or “state and local agencies”) make air stationary source compliance and enforcement information available to the U.S. Environmental Protection Agency (EPA or the Agency) on a cyclic basis via input to the Air component of the Integrated Compliance Information System (ICIS-Air). ICIS-Air replaced the Air Facility System (AFS) in October 2014 when the Agency, with support from state and local agencies, completed the modernization of AFS into ICIS-Air.

ICIS-Air supports EPA and state and local agency efforts to ensure compliance with the nation's environmental laws pertaining to air, via the collection and management of important Clean Air Act (CAA or the “Act”) compliance and enforcement information. ICIS-Air is a sub-component of ICIS, which provides compliance and enforcement information on thousands of facilities regulated under numerous federal statutes. The information provided to EPA via ICIS-Air includes source characterization, compliance monitoring, and enforcement activities. EPA will use this information to assess progress toward meeting emission requirements developed under the authority of the CAA, and to protect and maintain air quality, public health, and the environment. Agencies receive delegation of the CAA through regulated grant authorities, and report compliance/enforcement activities undertaken at stationary sources pursuant to the Minimum Data Requirements (MDRs) as outlined in this ICR. The provisions of Section 114(a)(1) of the Clean Air Act, 42 U.S.C. Section 7414(a)(1) provide the broad authority for the reporting of compliance monitoring and enforcement information, along with Subpart Q—Reports in 40 CFR 51: Sections 51.324(a) and (b), and 51.327. This renewal requires the continuation of reporting of previously established MDRs via either direct, on-line entry or electronic data transfer (EDT) to ICIS-Air.

U.S. EPA and states are cooperating to improve the display, usability, and accuracy of EPA's Enforcement and Compliance History Online (ECHO). ECHO is a critical tool for accessing and analyzing information about facilities regulated under the Clean Air Act and other environmental statutes. As a first step, a team of state and EPA representatives has identified some changes to ECHO that will enhance the user experience and improve ECHO's display of facility compliance-related data. As such, EPA is soliciting state and local input on three options presented for the reporting of Federally Reportable Violation (FRV) dates. These options are presented in the 2/27/18 joint EPA-State paper written to identify improvements to the display, usability, and accuracy of EPA's ECHO. That paper is attached to the docket for this FR notice.

As suggested by the 2/27/18 joint EPA-State paper written to identify improvements to the display, usability, and accuracy of ECHO, we are asking commenters, if they would like, to indicate a preference for one of the three FRV date reporting options agencies may choose to display on ECHO: 1a. FRV Determination Date and Case File Resolved Date; 1b. Violation Occurrence Start Date and Occurrence End Date; 2. FRV Determination Date. Option 1a would require the linking of formal enforcement actions to the case file, and in the absence of formal enforcement action, the entry of Resolving Action Type and Date. Option 1b would add two data elements to the minimum data requirements. Option 2 continues the status quo in which the FRV Determination Date is either reported voluntarily by the agency or auto-generated by ICIS-Air to match the date on which the agency submitted the FRV data to ICIS-Air.

The EPA-State paper expressed the authors' belief that EPA's ECHO could better display CAA violations if FRV dates are consistently reported. Several members of the workgroup that created the paper expressed the view that EPA should select an approach for FRV date reporting and request the entry of the necessary data, via this ICR renewal process. EPA encourages you to share the views of your organization on this topic.

EPA currently intends to continue the status quo with respect to the minimum data requirements associated with reporting FRVs. However, EPA is open to changing its viewpoint based upon the feedback received from stakeholders in response to this Federal Register notice.

Respondents: State, Local, Territorial, Indian Nations, and Commonwealth governments.

Respondent's obligation to respond: Mandatory, see Section 114(a)(1) of the Clean Air Act, 42 U.S.C. Section 7414(a)(1).

Estimated number of respondents: 99.

Frequency of response: Every 60 days.

Annual estimated burden: 51,413 hours.

Annual estimated cost: $2,688,901. There are no annualized capital/startup or operations & maintenance costs.

Changes in Estimates: When developing the previous ICR, ICIS-Air was not yet implemented in a production environment and EPA estimated burden to the best of its ability based on the Agency's knowledge of ICIS-Air. At that time, EPA believed that states and locals, as a whole, would experience a reduction in reporting burden due to the ease of reporting to ICIS-Air, a modern and more robust information system. For this ICR renewal, EPA will use experience from the last three years to provide burden estimates that adequately reflect the actual burden. EPA will consider any comment received and will conduct consultation with delegated agencies that are direct users of ICIS-Air, as well as those using EDT to report MDRs. Since ICIS-Air is a relatively new platform, the estimates provided are likely to change.

Dated: May 23, 2018.
Randolph L. Hill,
Director, Enforcement Targeting & Data Division, Office of Compliance.

[FR Doc. 2018-12375 Filed 6-7-18; 8:45 am]

BILLING CODE 6560-50-P